DEPARTMENT OF THE INTERIOR

Bureau of Land Management

[AZ-956-06-1420-BJ]

Notice of Filing of Plats of Survey; Arizona

AGENCY: Bureau of Land Management, Interior.

ACTION: Notice.

SUMMARY: The plats of survey, supplemental and amended protraction diagram described below are scheduled to be officially filed in the Arizona State Office, Bureau of Land Management, Phoenix, Arizona, (30) thirty calendar days from the date of this publication.

SUPPLEMENTARY INFORMATION:

The Gila and Salt River Meridian, Arizona

The plat representing the dependent resurvey of the subdivision of the northwest quarter of section 5 and a portion of the 1973-75 meanders of the left bank of the Verde River in section 5 and the metes-and-bounds survey in the Northwest quarter of section 5, Township 13 North, Range 5 East, accepted September 9, 2005, and officially filed September 12, 2005, for Group 916 Arizona.

This plat was prepared at the request of the United States Forest Service.

The plat representing the dependent resurvey of a portion of the Seventh Standard Parallel North (south boundary) a portion of the subdivision lines, and the subdivision of section 22 and 34, Township 29 North, Range 8 East, accepted January 18, 2006, and officially filed January 26, 2006, for Group 944 Arizona.

This plat was prepared at the request of the Bureau of Indian Affairs, Navajo Regional Office.

The plat (3 sheets) representing the dependent resurvey of the south boundary, Township 26 North, Range 18 East, a portion of the south boundary, Township 26 North, Range 17 East, a portion of the Sixth Standard Parallel North (south boundary), the east and west boundaries, the subdivisional lines and a portion of the boundary, management district number 6, Hopi Indian Reservation Township 25 North, Range 18 East, accepted February 16, 2006, and officially filed February 28, 2006 for Group 913 Arizona.

This plat was prepared at the request of the Bureau of Indian Affairs, Navajo Regional Office.

The plat representing the dependent resurvey of a portion of the subdivisional lines, and a metes-and-bounds survey in section 36, Township 1 North, Range 14 East, accepted September 9, 2005, and officially filed September 12, 2005 for Group 966 Arizona.

This plat was prepared at the request of the Bureau of Land Management.

The plat (3 sheets) representing the dependent resurvey of the east and west boundaries, the subdivisional lines and a portion of the boundary, Management District No. 6, Hopi Indian Reservation, Township 26 North, Range 18 East, accepted March 14, 2006, and officially filed March 24, 2006 for Group 922 Arizona.

This plat was prepared at the request of the Bureau of Indian Affairs, Western Regional Office.

The plat representing the dependent resurvey of the south, east, west and north boundaries, and the subdivisional lines, the subdivision of certain sections and the metes-and-bounds survey in section 12, Township 23 North, Range 21 East, accepted January 9, 2006, and officially filed January 19, 2006 for Group 935 Arizona.

This plat was prepared at the request of the Bureau of Indian Affairs, Navajo Regional Office.

The plat representing the survey of the Sixth Guide Meridian East (east boundary) and the south and west boundaries and the subdivisional lines, Township 24 North, Range 24 East, accepted January 9, 2006 and officially filed January 19, 2006 for Group 925 Arizona.

This plat was prepared at the request of the Bureau of Indian Affairs, Navajo Regional Office.

The plat representing the dependent resurvey of the east boundary and the survey of the south boundary, the governing section line and the subdivisional lines, Township 26 North, Range 27 East, accepted March 14, 2006, and officially filed March 24, 2006, for Group 926 Arizona.

This plat was prepared at the request of the Bureau of Indian Affairs, Navajo Regional Office.

The plat representing the survey of the east boundary, and the subdivisional lines, Township 28 North, Range 27 East, accepted August 17, 2005, and officially filed August 26, 2005 for Group 902 Arizona.

This plat was prepared at the request of the Bureau of Indian Affairs, Navajo Regional Office.

The plat representing the dependent resurvey of the north boundary, Township 26 North, Range 28 East and the survey of the Seventh Guide Meridian East (east boundary), the north boundary, the latitudinal governing section line and subdivisional lines, Township 27 North, Range 28 East, accepted August 17, 2005, and officially filed August 26, 2005 for Group 902 Arizona.

This plat was prepared at the request of the Bureau of Indian Affairs, Navajo Regional Office.

The plat representing the survey of the south, east and north boundaries, and the subdivisional lines of Township 27 North, Range 27 East, accepted August 17, 2005, and officially filed August 26, 2005 for Group 902 Arizona.

This plat was prepared at the request of the Bureau of Indian Affairs, Navajo Regional Office.

The plat representing the dependent resurvey of a portion of the subdivisional lines and the survey of a portion the First Guide Meridian West (west boundary), the east and north boundaries and a portion of the subdivisional lines Township 41 North, Range 4 West, accepted February 16, 2006, and officially filed February 28, 2006 for Group 911 Arizona.

This plat was prepared at the request of the Bureau of Indian Affairs, Western Regional Office.

The plat representing the dependent resurvey of a portion of the east boundary and a portion of the subdivisional lines and a metes-and-bounds survey in section 1 Township 20 North, Range 16 West, accepted January 10, 2006, and officially filed January 19, 2006 for Group 967 Arizona.

This plat was prepared at the request of the Bureau of Land Management.

The plat representing the dependent resurvey of a portion of the subdivision of section 1, a portion of a metes-and-bounds survey in section 1 and metes-and-bounds survey in section 1, Township 9 South, Range 22 West, accepted August 16, 2005 and officially filed August 23, 2005 for Group 951 Arizona.

This plat was prepared at the request of the United States Fish and Wildlife Service.

The plat representing the dependent resurvey of a portion of the south boundary and a portion of the subdivisional, Township 18 South, Range 9 East, accepted August 16, 2005, and officially filed August 23, 2005 for Group 952 Arizona.

This plat was prepared at the request of the United States Fish and Wildlife Service.

Supplemental Plats

The plat representing the supplemental plat of section 25, Township 5 South, Range 26 East, accepted September 7, 2005, and officially filed September 12, 2005.

This plat was prepared at the request of the Bureau of Land Management.

The plat representing the supplemental plat of the northwest 1/4 of section 6, Township 6 South, Range 27 East, accepted September 7, 2005, and officially filed September 12, 2005.

This plat was prepared at the request of the Bureau of Land Management.

The plat representing the supplemental plat of sections 22, 23, 26 and 27 of Township 5 South, Range 26 East, accepted September 7, 2005, and officially filed September 12, 2005.

This plat was prepared at the request of the Bureau of Land Management.

The plat representing the supplemental plat of section 13, Township 21 North, Range 16 West, accepted August 23, 2005, and officially filed August 26, 2005.

This plat was prepared at the request of the Bureau of Land Management.

The plat representing the supplemental plat of section 1, Township 6 South, Range 26 East, accepted September 7, 2005, and officially filed September 12, 2005.

This plat was prepared at the request of the Bureau of Land Management.

Amended Protraction Diagrams

These amended protraction diagrams were prepared at the request of the United States Forest Service to accommodate Revision of Base Quadrangle Maps for the Geometronics Service Center.

The Amended Protraction Diagram of partially surveyed Township 9 North, Range 3 East, Gila and Salt River Meridian, Arizona, was accepted February 10, 2006.

The Amended Protraction Diagram of partially surveyed Township 7 North, Range 4 East, Gila and Salt River Meridian, Arizona, was accepted October 09, 2003.

The Amended Protraction Diagram of unsurveyed Township 8 North, Range 4 East, Gila and Salt River Meridian, Arizona, was accepted February 10, 2006.

The Amended Protraction Diagram of partially surveyed Township 11 North, Range 4 East, Gila and Salt River Meridian, Arizona, was accepted February 10, 2006.

The Amended Protraction Diagram of partially surveyed Township 6 North, Range 5 East, Gila and Salt River Meridian, Arizona, was accepted October 09, 2003.

The Amended Protraction Diagram of partially surveyed Township 7 North, Range 5 East, Gila and Salt River Meridian, Arizona, was accepted October 09, 2003.

The Amended Protraction Diagram of unsurveyed Township 8 North, Range 5 East, Gila and Salt River Meridian, Arizona, was accepted February 10, 2006.

The Amended Protraction Diagram of unsurveyed Township 11 North Range 5 East, Gila and Salt River Meridian, Arizona, was accepted February 10, 2006.

The Amended Protraction Diagram of partially surveyed Township 6 North, Range 6 East, Gila and Salt River Meridian, Arizona, was accepted October 09, 2003.

The Amended Protraction Diagram of unsurveyed Township 7 North, Range 6 East, Gila and Salt River Meridian, Arizona, was accepted October 09, 2003.

The Amended Protraction Diagram of unsurveyed Township 8 North, Range 6 East, Gila and Salt River Meridian, Arizona, was accepted February 10, 2006.

The Amended Protraction Diagram of unsurveyed Township 9 North, Range 6 East, Gila and Salt River Meridian, Arizona, was accepted February 10, 2006.

The Amended Protraction Diagram of unsurveyed Township 9½ North, Range 6 East, Gila and Salt River Meridian, Arizona, was accepted February 10, 2006.

The Amended Protraction Diagram of unsurveyed Township 10 North Range 6 East, Gila and Salt River Meridian, Arizona, was accepted February 10, 2006.

The Amended Protraction Diagram of unsurveyed Township 11 North Range 6 East, Gila and Salt River Meridian, Arizona, was accepted February 10, 2006.

The Amended Protraction Diagram of unsurveyed Township 12 North Range 6 East, Gila and Salt River Meridian, Arizona, was accepted February 17, 2006.

The Amended Protraction Diagram of partially surveyed Township 5 North, Range 7 East, Gila and Salt River Meridian, Arizona, was accepted October 09, 2003.

The Amended Protraction Diagram of unsurveyed Township 6 North, Range 7 East, Gila and Salt River Meridian, Arizona, was accepted October 09, 2003.

The Amended Protraction Diagram of unsurveyed Township 7 North, Range 7 East, Gila and Salt River Meridian, Arizona, was accepted October 09, 2003.

The Amended Protraction Diagram of unsurveyed Township 8 North, Range 7 East, Gila and Salt River Meridian, Arizona, was accepted February 10, 2006.

The Amended Protraction Diagram of unsurveyed Township 9 North, Range 7 East, Gila and Salt River Meridian, Arizona, was accepted February 10, 2006.

The Amended Protraction Diagram of unsurveyed Township 10 North Range 7 East, Gila and Salt River Meridian, Arizona, was accepted February 10, 2006.

The Amended Protraction Diagram of unsurveyed Township 11 North Range 7 East, Gila and Salt River Meridian, Arizona, was accepted February 17, 2006.

The Amended Protraction Diagram of unsurveyed Township 11½ North, Range 7 East, Gila and Salt River Meridian, Arizona, was accepted February 17, 2006.

The Amended Protraction Diagram of unsurveyed Township 12 North Range 7 East, Gila and Salt River Meridian, Arizona, was accepted February 17, 2006.

The Amended Protraction Diagram of partially surveyed Township 2 North, Range 8 East, Gila and Salt River Meridian, Arizona, was accepted June 25, 2003.

The Amended Protraction Diagram of partially surveyed Township 3 North, Range 8 East, Gila and Salt River Meridian, Arizona, was accepted June 25, 2003.

The Amended Protraction Diagram of partially surveyed Township 4 North, Range 8 East, Gila and Salt River Meridian, Arizona, was accepted July 23, 2003.

The Amended Protraction Diagram of unsurveyed Township 5 North, Range 8 East, Gila and Salt River Meridian, Arizona, was accepted October 09, 2003.

The Amended Protraction Diagram of partially surveyed Township 6 North, Range 8 East, Gila and Salt River Meridian, Arizona, was accepted October 09, 2003.

The Amended Protraction Diagram of partially surveyed Township 7 North, Range 8 East, Gila and Salt River Meridian, Arizona, was accepted October 09, 2003.

The Amended Protraction Diagram of unsurveyed Township 8 North, Range 8 East, Gila and Salt River Meridian, Arizona, was accepted February 17, 2006.

The Amended Protraction Diagram of unsurveyed Township 9 North, Range 8 East, Gila and Salt River Meridian, Arizona, was accepted February 10, 2006.

The Amended Protraction Diagram of unsurveyed Township 10 North, Range 8 East, Gila and Salt River Meridian, Arizona, was accepted February 10, 2006.

The Amended Protraction Diagram of unsurveyed Township 11 North, Range 8 East, Gila and Salt River Meridian, Arizona, was accepted February 17, 2006.

The Amended Protraction Diagram of unsurveyed Township 11½ North, Range 8 East, Gila and Salt River Meridian, Arizona, was accepted February 17, 2006.

The Amended Protraction Diagram of partially surveyed Township 12 North, Range 8 East, Gila and Salt River Meridian, Arizona, was accepted February 17, 2006.

The Amended Protraction Diagram of unsurveyed Township 2 North, Range 9 East, Gila and Salt River Meridian, Arizona, was accepted June 25, 2003.

The Amended Protraction Diagram of unsurveyed Township 3 North, Range 9 East, Gila and Salt River Meridian, Arizona, was accepted June 25, 2003.

The Amended Protraction Diagram of unsurveyed Township 4 North, Range 9 East, Gila and Salt River Meridian, Arizona, was accepted July 23, 2003.

The Amended Protraction Diagram of unsurveyed Township 5 North, Range 9 East, Gila and Salt River Meridian, Arizona, was accepted October 09, 2003.

The Amended Protraction Diagram of partially surveyed Township 7 North, Range 9 East, Gila and Salt River Meridian, Arizona, was accepted February 03, 2006.

The Amended Protraction Diagram of unsurveyed Township 8 North, Range 9 East, Gila and Salt River Meridian, Arizona, was accepted February 17, 2006.

The Amended Protraction Diagram of unsurveyed Township 9 North, Range 9 East, Gila and Salt River Meridian, Arizona, was accepted February 10, 2006.

The Amended Protraction Diagram of unsurveyed Township 10 North, Range 9 East, Gila and Salt River Meridian, Arizona, was accepted February 10, 2006.

The Amended Protraction Diagram of unsurveyed Township 11½ North, Range 9 East, Gila and Salt River Meridian, Arizona, was accepted February 17, 2006.

The Amended Protraction Diagram of partially surveyed Township 12 North, Range 9 East, Gila and Salt River Meridian, Arizona, was accepted February 17, 2006.

The Amended Protraction Diagram of unsurveyed Township 2 North, Range 10 East, Gila and Salt River Meridian, Arizona, was accepted June 25, 2003.

The Amended Protraction Diagram of unsurveyed Township 3 North, Range 10 East, Gila and Salt River Meridian, Arizona, was accepted June 25, 2003.

The Amended Protraction Diagram of unsurveyed Township 4 North, Range 10 East, Gila and Salt River Meridian, Arizona, was accepted July 23, 2003.

The Amended Protraction Diagram of unsurveyed Township 5 North, Range 10 East, Gila and Salt River Meridian, Arizona, was accepted October 09, 2003.

The Amended Protraction Diagram of partially surveyed Township 6 North, Range 10 East, Gila and Salt River Meridian, Arizona, was accepted October 09, 2003.

The Amended Protraction Diagram of partially surveyed Township 7 North, Range 10 East, Gila and Salt River Meridian, Arizona, was accepted October 09, 2003.

The Amended Protraction Diagram of partially surveyed Township 11 North, Range 10 East, Gila and Salt River Meridian, Arizona, was accepted February 17, 2006.

The Amended Protraction Diagram of unsurveyed Township 11½ North, Range 10 East, Gila and Salt River Meridian, Arizona, was accepted February 17, 2006.

The Amended Protraction Diagram of partially surveyed Township 12 North, Range 10 East, Gila and Salt River Meridian, Arizona, was accepted February 17, 2006.

The Amended Protraction Diagram of unsurveyed Township 1 North, Range 11 East, Gila and Salt River Meridian, Arizona, was accepted June 25, 2003.

The Amended Protraction Diagram of unsurveyed Township 2 North, Range 11 East, Gila and Salt River Meridian, Arizona, was accepted June 25, 2003.

The Amended Protraction Diagram of unsurveyed Township 3 North, Range 11 East, Gila and Salt River Meridian, Arizona, was accepted July 16, 2003.

The Amended Protraction Diagram of partially surveyed Township 4 North, Range 11 East, Gila and Salt River Meridian, Arizona, was accepted July 23, 2003.

The Amended Protraction Diagram of partially surveyed Township 5 North, Range 11 East, Gila and Salt River Meridian, Arizona, was accepted October 09,2003.

The Amended Protraction Diagram of unsurveyed Township 7 North, Range 11 East, Gila and Salt River Meridian, Arizona, was accepted October 09, 2003.

The Amended Protraction Diagram of unsurveyed Township 8 North, Range 11 East, Gila and Salt River Meridian, Arizona, was accepted February 17, 2006.

The Amended Protraction Diagram of partially surveyed Township 10 North, Range 11 East, Gila and Salt River Meridian, Arizona, was accepted February 10, 2006.

The Amended Protraction Diagram of partially surveyed Township 11 North, Range 11 East, Gila and Salt River Meridian, Arizona, was accepted February 17, 2006.

The Amended Protraction Diagram of unsurveyed Township 1 North, Range 12 East, Gila and Salt River Meridian, Arizona, was accepted June 18, 2003.

The Amended Protraction Diagram of partially surveyed Township 2 North, Range 12 East, Gila and Salt River Meridian, Arizona, was accepted June 25, 2003.

The Amended Protraction Diagram of unsurveyed Township 3 North, Range 12 East, Gila and Salt River Meridian, Arizona, was accepted July 16, 2003.

The Amended Protraction Diagram of partially surveyed Township 4 North, Range 12 East, Gila and Salt River Meridian, Arizona, was accepted July 23, 2003.

The Amended Protraction Diagram of unsurveyed Township 5 North, Range 12 East, Gila and Salt River Meridian, Arizona, was accepted October 09, 2003.

The Amended Protraction Diagram of partially surveyed Township 6 North, Range 12 East, Gila and Salt River Meridian, Arizona, was accepted October 09, 2003.

The Amended Protraction Diagram of unsurveyed Township 7 North, Range 12 East, Gila and Salt River Meridian, Arizona, was accepted October 09, 2003.

The Amended Protraction Diagram of unsurveyed Township 8 North, Range 12 East, Gila and Salt River Meridian, Arizona, was accepted February 17, 2006.

The Amended Protraction Diagram of partially surveyed Township 1 North, Range 13 East, Gila and Salt River Meridian, Arizona, was accepted July 16, 2003.

The Amended Protraction Diagram of unsurveyed Township 2 North, Range 13 East, Gila and Salt River Meridian, Arizona, was accepted February 03, 2006.

The Amended Protraction Diagram of unsurveyed Township 3 North, Range 13 East, Gila and Salt River Meridian, Arizona, was accepted July 23, 2003.

The Amended Protraction Diagram of unsurveyed Township 6 North, Range 13 East, Gila and Salt River Meridian, Arizona, was accepted February 03, 2006.

The Amended Protraction Diagram of unsurveyed Township 7 North, Range 13 East, Gila and Salt River Meridian, Arizona, was accepted February 03, 2006.

The Amended Protraction Diagram of unsurveyed Township 8 North, Range 13 East, Gila and Salt River Meridian, Arizona, was accepted February 17, 2006.

The Amended Protraction Diagram of unsurveyed Township 10 North, Range 13 East, Gila and Salt River Meridian, Arizona, was accepted February 10, 2006.

The Amended Protraction Diagram of partially surveyed Township 1 North, Range 14 East, Gila and Salt River Meridian, Arizona, was accepted February 17, 2006.

The Amended Protraction Diagram of partially surveyed Township 2 North, Range 14 East, Gila and Salt River Meridian, Arizona, was accepted June 18, 2003.

The Amended Protraction Diagram of partially surveyed Township 3 North, Range 14 East, Gila and Salt River Meridian, Arizona, was accepted July 23, 2003.

The Amended Protraction Diagram of partially surveyed Township 4 North, Range 14 East, Gila and Salt River Meridian, Arizona, was accepted July 16, 2003.

The Amended Protraction Diagram of unsurveyed Township 7 North, Range 14 East, Gila and Salt River Meridian, Arizona, was accepted February 03, 2006.

The Amended Protraction Diagram of partially surveyed Township 8 North, Range 14 East, Gila and Salt River Meridian, Arizona, was accepted February 17, 2006.

The Amended Protraction Diagram of unsurveyed Township 10½ North, Range 14 East, Gila and Salt River Meridian, Arizona, was accepted February 10, 2006.

The Amended Protraction Diagram of partially surveyed Township 2 North, Range 15 East, Gila and Salt River Meridian, Arizona, was accepted June 18, 2003.

The Amended Protraction Diagram of unsurveyed Township 3 North, Range 15 East, Gila and Salt River Meridian, Arizona, was accepted July 23, 2003.

The Amended Protraction Diagram of unsurveyed Township 4 North, Range 15 East, Gila and Salt River Meridian, Arizona, was accepted October 09, 2003.

The Amended Protraction Diagram of partially surveyed Township 5 North, Range 15 East, Gila and Salt River Meridian, Arizona, was accepted October 09, 2003.

The Amended Protraction Diagram of unsurveyed Township 6 North, Range 15 East, Gila and Salt River Meridian, Arizona, was accepted October 09, 2003.

The Amended Protraction Diagram of partially surveyed Township 7 North, Range 15 East, Gila and Salt River Meridian, Arizona, was accepted February 03, 2006.

The Amended Protraction Diagram of unsurveyed Township 2 North, Range 15½ East, Gila and Salt River Meridian, Arizona, was accepted February 03, 2006.

The Amended Protraction Diagram of unsurveyed Township 3 North, Range 15½ East, Gila and Salt River Meridian, Arizona, was accepted July 23, 2003.

The Amended Protraction Diagram of unsurveyed Township 4 North, Range 15½ East, Gila and Salt River Meridian, Arizona, was accepted July 23, 2003.

The Amended Protraction Diagram of unsurveyed Township 2 North, Range 16 East, Gila and Salt River Meridian, Arizona, was accepted July 23, 2003.

The Amended Protraction Diagram of unsurveyed Township 3 North, Range 16 East, Gila and Salt River Meridian, Arizona, was accepted July 23, 2003.

The Amended Protraction Diagram of unsurveyed Township 4 North, Range 16 East, Gila and Salt River Meridian, Arizona, was accepted July 23, 2003.

The Amended Protraction Diagram of unsurveyed Township 4½ North, Range 16 East, Gila and Salt River Meridian, Arizona, was accepted February 03, 2006.

The Amended Protraction Diagram of unsurveyed Township 5 North, Range 16 East, Gila and Salt River Meridian, Arizona, was accepted February 03, 2006.

The Amended Protraction Diagram of unsurveyed Township 3 North, Range 17 East, Gila and Salt River Meridian, Arizona, was accepted July 23, 2003.

The Amended Protraction Diagram of unsurveyed Township 4 North, Range 17 East, Gila and Salt River Meridian, Arizona, was accepted July 23, 2003.

The Amended Protraction Diagram of unsurveyed Township 4½ North, Range 17 East, Gila and Salt River Meridian, Arizona, was accepted February 03, 2006.

The Amended Protraction Diagram of unsurveyed Township 5 North, Range 17 East, Gila and Salt River Meridian, Arizona, was accepted February 17, 2006.

The Amended Protraction Diagram of unsurveyed Township 4 North, Range 29 East, Gila and Salt River Meridian, Arizona, was accepted February 17, 2006.

The Amended Protraction Diagram of unsurveyed Township 4 North, Range 30 East, Gila and Salt River Meridian, Arizona, was accepted February 17, 2006.

The Amended Protraction Diagram of unsurveyed Township 4½ North, Range 29 East, Gila and Salt River Meridian, Arizona, was accepted February 17, 2006.

The Amended Protraction Diagram of unsurveyed Township 1 South, Range 11 East, Gila and Salt River Meridian, Arizona, was accepted June 18, 2003.

The Amended Protraction Diagram of partially surveyed Township 1 South, Range 13 East, Gila and Salt River Meridian, Arizona, was accepted June 18, 2003.

The Amended Protraction Diagram of partially surveyed Township 2 South, Range 14 East, Gila and Salt River Meridian, Arizona, was accepted June 18, 2003.

The Amended Protraction Diagram of unsurveyed Township 1 South, Range 14½ East, Gila and Salt River Meridian, Arizona, was accepted June 18, 2003.

The Amended Protraction Diagram of partially surveyed Township 1 South, Range 15 East, Gila and Salt River Meridian, Arizona, was accepted June 25, 2003.

The Amended Protraction Diagram of partially surveyed Township 2 South, Range 15 East, Gila and Salt River Meridian, Arizona, was accepted June 18, 2003.

The Amended Protraction Diagram of partially surveyed Township 1 South, Range 16 East, Gila and Salt River Meridian, Arizona, was accepted July 16, 2003.

If a protest against a survey, supplemental and or amended protraction diagram as shown on any of the above plats is received prior to the date of official filing, the filing will be stayed pending consideration of the protest. A plat will not be officially filed until the day after all protests have been dismissed and become final or appeals from the dismissal affirmed.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427.

Dated: March 27, 2006.
Stephen K. Hansen,
Cadastral Chief.

[FR Doc. E6-5102 Filed 4-6-06; 8:45 am]

BILLING CODE 4310-32-P